DEPARTMENT OF COMMERCE

Foreign-Trade Zones Board

[Docket 49-2009]

Foreign-Trade Zone 119—Minneapolis, MN; Application for Subzone SICK, Inc. (Photo-Electronic Industrial Sensors); Bloomington, MN

An application has been submitted to the Foreign-Trade Zones Board (the Board) by the Greater Metropolitan Area Foreign Trade Zone Commission (Minneapolis, Minnesota), grantee of FTZ 119, requesting special-purpose subzone status for the photo-electronic industrial sensor manufacturing facility of SICK, Inc. (SICK), located in Bloomington, Minnesota. The application was submitted pursuant to the provisions of the Foreign-Trade Zones Act, as amended (19 U.S.C. 81a-81u), and the regulations of the Board (15 CFR part 400). It was formally filed on November 10, 2009.

The SICK facility (300 employees/55,207 sq.ft./3.2 acres) is located at 6900 West 110th Street, Bloomington (Hennepin County), Minnesota. The facility is used to manufacture and distribute photo-electronic industrial automation sensors, safety systems, and automatic identification products (classified under HTSUS 8541.40) for the U.S. market and export. At full capacity the plant can manufacture up to 50,000 units annually. Activity under FTZ procedures would include manufacturing, testing, inspection, and packaging. Components to be purchased from abroad (representing about 30% of the value of the finished sensors) would include plates/sheets/film/foil of polycarbonates, fasteners, parts of circuit breakers, and electrical conductors (duty rate range: 2.6-8.5%). The application indicates that SICK would also admit foreign-origin photo-electronic sensors and related components to the proposed subzone for domestic distribution and export.

FTZ procedures could exempt SICK from customs duty payments on the foreign components used in export production. On domestic shipments, the company would be able to elect the duty rate that applies to finished photo-electronic sensors (free) for the foreign inputs noted above. Subzone status would further allow SICK to realize logistical benefits through the use of weekly customs entry procedures. Customs duties could possibly be deferred or reduced on foreign status production equipment. The application indicates that the savings from FTZ procedures would help improve the facility's international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is January 19, 2010. Rebuttal comments in response to material submitted during the foregoing period may be submitted during the subsequent 15-day period to February 1, 2010.

A copy of the application will be available for public inspection at the Office of the Foreign-Trade Zones Board's Executive Secretary at the address listed above and in the “Reading Room” section of the Board's Web site, which is accessible via http://www.trade.gov/ftz.

For Further Information Contact: Pierre Duy at Pierre.Duy@trade.gov or (202) 482-1378.

Dated: November 10, 2009.
Andrew McGilvray,
Executive Secretary.

[FR Doc. E9-27681 Filed 11-17-09; 8:45 am]

BILLING CODE 3510-DS-P